DEPARTMENT OF COMMERCE

Foreign-Trade Zones Board

[B-64-2015]

Foreign-Trade Zone (FTZ) 230—Piedmont Triad Area, North Carolina, Notification of Proposed Production Activity, Deere-Hitachi Construction Machinery Corporation, (Hydraulic Excavators), Kernersville, North Carolina

The Piedmont Triad Partnership, grantee of FTZ 230, submitted a notification of proposed production activity to the FTZ Board on behalf of Deere-Hitachi Construction Machinery Corporation (Deere-Hitachi), located in Kernersville, North Carolina. The notification conforming to the requirements of the regulations of the FTZ Board (15 CFR 400.22) was received on September 8, 2015.

The Deere-Hitachi facility is located within Site 30 of FTZ 230. The facility is used for the production of hydraulic excavators. Pursuant to 15 CFR 400.14(b), FTZ activity would be limited to the specific foreign-status materials and components and specific finished products described in the submitted notification (as described below) and subsequently authorized by the FTZ Board.

Production under FTZ procedures could exempt Deere-Hitachi from customs duty payments on the foreign-status components used in export production. On its domestic sales, Deere-Hitachi would be able to choose the duty rate during customs entry procedures that applies to finished and unfinished hydraulic excavators (duty-free) for the foreign-status inputs noted below. Customs duties also could possibly be deferred or reduced on foreign-status production equipment.

The components and materials sourced from abroad include: Plastic hoses/o-rings/seals; decals; rubber hoses not reinforced or otherwise combined with other materials with fittings; rubber hoses reinforced or otherwise combined only with textile materials; rubber hoses reinforced or otherwise combined with other material; v-belts; rubber floor mats/o-rings/seals/fittings; steel bolts/screws/nuts/spring washers/other washers/cotters/cotter pins/pins/stoppers/springs/tracks; steel parts comprised of pipe clamps, hose clamps, clips, caps and plugs and similar fasteners; steel catches; steel locks; engines; hydraulic cylinders; hydraulic motors; parts for cylinders and motors; pumps; compressors; air conditioner parts; fuel/oil filters; receiver-dryers used in air conditioning systems; air filters; parts of filters; excavator parts comprised of covers, shoes, booms, cabs, counterweights, side frames, brackets, large pins, links, and pipes; control valves; other valves; parts of valves; bushings; pulleys; swing bearings; gaskets made of metal sheeting; horns; alarms; sensors; battery relays; electrical switches; sockets; controllers; wire harnesses; and lighters (duty rates range from duty-free to 5.7%).

Public comment is invited from interested parties. Submissions shall be addressed to the FTZ Board's Executive Secretary at the address below. The closing period for their receipt is November 4, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: September 18, 2015.
Andrew McGilvray,
Executive Secretary.

[FR Doc. 2015-24451 Filed 9-24-15; 8:45 am]

BILLING CODE 3510-DS-P